DEPARTMENT OF THE INTERIOR

Bureau of Land Management

[WY-100-05-1310-DB]

Notice of Meetings of the Pinedale Anticline Working Group's Wildlife Task Group

AGENCY: Bureau of Land Management, Interior.

ACTION: Notice of public meetings.

SUMMARY: In accordance with the Federal Land Policy and Management Act (1976) and the Federal Advisory Committee Act (1972), the U.S. Department of the Interior, Bureau of Land Management (BLM) Pinedale Anticline Working Group (PAWG) Wildlife Task Group (subcommittee) will meet in Pinedale, Wyoming, for business meetings. The meetings are open to the public.

DATES: The PAWG Wildlife Task Group will meet October 28, November 9, and December 9, 2004, from 1 p.m. until 4 p.m.

ADDRESSES: The October 28, 2004, meeting of the PAWG Wildlife Task Group will be held in the large conference room of the Bureau of Land Management Office, 432 E. Mill St., Pinedale, WY. The November 9, 2004, meeting will be held in the meeting room of the Pinedale Volunteer Fire Department, 130 S. Fremont Ave., Pinedale, WY; and the December 9, 2004, meeting will be held in the Lovatt Meeting Room of the Sublette County Public Library at 155 S. Tyler Avenue, Pinedale, WY.

FOR FURTHER INFORMATION CONTACT: Steve Belinda, BLM/WildlifeTG Liaison, Bureau of Land Management, Pinedale Field Office, 432 E. Mill St., PO Box 768, Pinedale, WY 82941; 307-367-5323.

SUPPLEMENTARY INFORMATION: The Pinedale Anticline Working Group (PAWG) was authorized and established with release of the Record of Decision (ROD) for the Pinedale Anticline Oil and Gas Exploration and Development Project on July 27, 2000. The PAWG advises the BLM on the development and implementation of monitoring plans and adaptive management decisions as development of the Pinedale Anticline Natural Gas Field (PAPA) proceeds for the life of the field.

After the ROD was issued, Interior determined that a Federal Advisory Committees Act (FACA) charter was required for this group. The charter was signed by Secretary of the Interior, Gale Norton, on August 15, 2002, and renewed on August 13, 2004. An announcement of committee initiation and call for nominations was published in the Federal Register on February 21, 2003, (68 FR 8522). PAWG members were appointed by Secretary Norton on May 4, 2004.

At their second business meeting, the PAWG established seven resource- or activity-specific Task Groups: Air Quality; Water Resources; Reclamation; Wildlife; Socio-Economic; Cultural/Historic/Visual Resources; and Transportation. Public participation on those Task Groups was solicited through the media, letters, and word-of-mouth. The initial Task Group meeting agenda will include: Review of Task Group charges from the Pinedale Anticline Oil and Gas Exploration and Development Project ROD and the PAWG (developing monitoring plan(s) for the wildlife resources in the Anticline gas field, identifying who will do the monitoring, and identifying who will pay for the monitoring); developing a strategy to accomplish those tasks for recommendation to the PAWG by February, 2005; and selecting Task Group leadership and a proceedings recorder. Subsequent meeting agendas will include developing the monitoring plan(s) and identifying who will do the monitoring and how those costs will be paid. Public comments will be heard just prior to adjournment at each meeting.

Dated: September 30, 2004.
Donald A. Simpson,
Acting State Director.

[FR Doc. 04-22466 Filed 10-5-04; 8:45 am]

BILLING CODE 4310-22-P